NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: December 8, 2003 from 10 a.m. to 11 a.m.

ADDRESSES: National Archives and Records Administration Building, Washington, DC, Jefferson Room.

FOR FURTHER INFORMATION CONTACT: Richard H. Hunt, Acting Director; Center for Legislative Archives; (202) 501-5350.

SUPPLEMENTARY INFORMATION: Agenda; Security Enhancements and the New Legislative Treasures Vault; Congressional Papers Roundtable and Guidelines for Congressional Policy Centers; Legislative records outside of official custody; Activities report of the Center for Legislative Archives; Other current issues and new business.

The meeting is open to the public.

Dated: November 18, 2003.
Mary Ann Hadyka,
Committee Management Officer.

[FR Doc. 03-29144 Filed 11-24-03; 8:45 am]

BILLING CODE 7515-01-P